DEPARTMENT OF COMMERCE

National Oceanic and Atmospheric Administration

RIN 0648-AV60

Magnuson-Stevens Act Provisions; Annual Catch Limits; National Standard 1 Guidelines; Meeting Announcements

AGENCY: National Marine Fisheries Service (NMFS), National Oceanic and Atmospheric Administration (NOAA), Commerce.

ACTION: Notice of public meetings.

SUMMARY: NMFS announces three public meetings to solicit comments on the proposed revisions to the guidelines for National Standard 1 (NS1) of the Magnuson-Stevens Fishery Conservation and Management Act (MSA).

DATES: The meetings will be held on July 10 in Silver Spring, MD, from 2 p.m. to 4 p.m. Eastern time; on July 15 in St. Petersburg, FL, from 3:45 pm to 5:45 p.m. Eastern time; and on July 24 in Seattle, WA, from 4 p.m. to 6 p.m., Pacific time.

ADDRESSES: The meetings will be held at the following locations:

The NOAA Science Center, 1301 East West Highway, Silver Spring, MD, 20910; telephone: 301-713-2341.

National Marine Fisheries Service, Southeast Regional Office, 263 13th Avenue South, St. Petersburg, FL, 33701; telephone: 727-824-5301.

Hilton Seattle Airport & Conference Center, 17620 International Boulevard, Seattle, WA, 98188; telephone: 206-244-4800.

FOR FURTHER INFORMATION CONTACT: Deb Lambert at (301) 713-2341 or via email at deb.lambert@noaa.gov.

SUPPLEMENTARY INFORMATION: On June 9, 2008, NMFS published proposed revisions to the National Standard 1 Guidelines in the Federal Register (73 FR 32526). These proposed revisions would update the guidelines to include guidance on how to comply with new annual catch limit (ACL) and accountability measure requirements for ending overfishing of fisheries managed by federal fishery management plans (FMPs). It also clarifies the relationship between ACLs, maximum sustainable yield, optimum yield (OY), and other applicable reference points. The intent of this action is to facilitate compliance with requirements of the Magnuson-Stevens Act to end and prevent overfishing, rebuild overfished stocks, and achieve OY. NMFS is holding these public meeting to solicit public comments on the proposed guidelines.

Special Accommodations

These meetings are accessible to people with disabilities. Requests for sign language interpretation or other aids, and requests for special accommodations or needs should be directed to Deb Lambert at (301) 713-2341 at least 5 business days in advance of the meeting date.

Authority: 16 U.S.C. 1851 to 1854.

Dated: June 20, 2008.
Alan D. Risenhoover,
Director, Office of Sustainable Fisheries, National Marine Fisheries Service.

[FR Doc. E8-14517 Filed 6-25-08; 8:45 am]

BILLING CODE 3510-22-S